UNITED STATES AFRICAN DEVELOPMENT FOUNDATION

Public Quarterly Meeting of the Board of Directors

AGENCY: United States African Development Foundation.

ACTION: Notice of meeting.

SUMMARY: The U.S. African Development Foundation (USADF) will hold its quarterly meeting of the Board of Directors to discuss the agency's programs and administration. This meeting will be virtual.

DATES: The meeting date is Tuesday, April 29, 2025, 9 a.m. to 10 a.m.

ADDRESSES: The meeting location is USADF, 1400 I St. NW, Suite 1000, Washington, DC 20005.

FOR FURTHER INFORMATION CONTACT: Kerline Perry, 202-344-9883.

Authority: Public Law 96-533 (22 U.S.C. 290h).

Dated: April 21, 2025.
Kerline Perry,
Attorney Adviser.

[FR Doc. 2025-07102 Filed 4-24-25; 8:45 am]

BILLING CODE 6117-01-P